DEPARTMENT OF COMMERCE

National Oceanic and Atmospheric Administration

[RTID 0648-XC298]

Endangered and Threatened Species; Take of Anadromous Fish

AGENCY: National Marine Fisheries Service (NMFS), National Oceanic and Atmospheric Administration (NOAA), U. S. Department of Commerce.

ACTION: Notice of receipt of application, for one scientific enhancement permit application and request for comment.

SUMMARY: Notice is hereby given that NMFS has received one permit application submitted by FISHBIO Environmental, LLC. (FISHBIO) to enhance the propagation and survival of species listed under the Endangered Species Act (ESA) of 1973, as amended, for a 5 year period. This document serves to notify the public of the availability of the renewal permit application for review and comment, prior to a decision by NMFS whether to issue the permit application may be viewed online at: https://apps.nmfs.noaa.gov/preview/preview_open_for_comment.cfm.

DATES: Written comments on the permit application must be received at the appropriate email address (see ADDRESSES) on or before September 28, 2022.

ADDRESSES: Written comments on the permit application should be submitted to NMFS California Central Valley Office via email to Meiling Colombano (meiling.colombano@noaa.gov).

FOR FURTHER INFORMATION CONTACT: Meiling Colombano (email: meiling.colombano@noaa.gov; phone: 916-204-3406). Permit application instructions are available online at https://apps.nmfs.noaa.gov.

SUPPLEMENTARY INFORMATION:

ESA-Listed Species Covered in This Notice

Chinook salmon (Oncorhynchus tshawytscha): Threatened, naturally produced and hatchery propagated Central Valley (CV) spring-run;

Steelhead (O. mykiss): Threatened, naturally produced and artificially propagated California Central Valley (CCV) Distinct Population Segment of steelhead;

North American green sturgeon (Acipenser medirostris): Threatened, naturally produced southern Distinct Population Segment (sDPS) of North American green sturgeon.

Authority

Scientific research and enhancement permits are issued in accordance with section 10(a)(1)(A) of the ESA (16 U.S.C. 1531 et. seq) and regulations governing listed fish and wildlife permits (50 CFR 222-227). NMFS issues permits based on findings that such permits (1) are applied for in good faith, (2) would not operate to the disadvantage of the listed species which are the subject of the permits, and (3) are consistent with the purposes and policies set forth in section 2 of the ESA. Authority to take listed species is subject to conditions set forth in the permits.

This notice is provided pursuant to section 10(c) of the ESA. NMFS will evaluate the application, associated documents, and any comment submitted to determine whether the application meets the requirements of section 10(a) of the ESA and Federal regulations. The final permit decisions will not be made until after the end of the 30-day comment period and consideration of any comment submitted therein. NMFS will publish notice of the final action on the subject permit application in the Federal Register.

Those individuals requesting a hearing on the application listed in this notice should provide the specific reasons why a hearing on the application would be appropriate (see ADDRESSES). Such a hearing is held at the discretion of the Assistant Administrator for Fisheries, NOAA.

All statements and opinions contained in the permit action summary are those of the applicant and do not necessarily reflect the views of NMFS.

Permit Application Received

Permit 21477-2R

FISHBIO has applied for a renewal enhancement permit under section 10(a)(1)(A) of the ESA for a period of 5 years that would allow take of both adult and juvenile CV spring-run Chinook salmon, CCV steelhead, and sDPS green sturgeon. Federal legislation (section 4010 of the Water Infrastructure Improvement for the Nation Act (WIIN Act); December 16, 2016) requires the Oakdale Irrigation District and South San Joaquín Irrigation District (Districts) and NMFS to jointly establish a nonnative predator research and pilot fish removal program in the Stanislaus River to investigate whether nonnative predator removal is an effective strategy to improve overall conditions for native fish, especially the survival of juvenile salmonids. The general approach of the program is intended to build off previous nonnative predator removal studies conducted in the Central Valley, as well as build off of the previous 5 years of data collected under the first permit (21477). The program will allow examination of the biological and ecological responses of both ESA-listed and non-federally listed native fish (particularly salmonids) and the fish community in relation to predator exclusion and removal efforts. Specific study questions will focus on changes in the densities and relative abundances in these native fish and fish community assemblages.

The program will be carried out using three primary methods: (1) An exclusion weir equipped with a live box (or fyke trap) will be used to trap and remove nonnative predatory fish. Native fish will be trapped daily and selectively passed upstream of the weir to reduce the potential for in-trap predation and minimize delays in migration; (2) sampling via boat electrofishing is proposed to estimate the abundance of nonnative predators and to conduct predator removals; and (3) survival will be assessed by conducting releases of hatchery-origin Chinook salmon juveniles, fitted with acoustic tags, upstream of areas where predator removal has occurred.

Although ESA-listed species are not directly targeted by the program, they may be incidentally captured and handled during electrofish sampling. Efforts will be made to limit electrofishing in areas where juvenile salmonids may be present or rearing. Electrofishing will follow guidelines to minimize injury and mortality and established measures will be taken to protect species listed under the ESA. The proposed operation of a weir in the Stanislaus River could impact ESA-listed species by delaying upstream migration of the adult lifestage. Additionally, trapping at the weir may result in the capture of adult ESA-listed species. These effects will be minimized by frequent (at least daily) trap checks at the site and prioritization of ESA-listed species for handling and release prior to other non-listed species.

Public Comments Solicited

NMFS invites the public to comment on the section 10(a)(1)(A) renewal enhancement permit application during a 30-day public comment period beginning on the date of this notice. This notice is provided pursuant to section 10(c) of the ESA (16 U.S.C. 1529(c)). All comments and materials received, including names and addresses, will become part of the administrative record and may be released to the public. We provide this notice in order to allow the public, agencies, or other organizations to review and comment on these documents.

Next Steps

NMFS will evaluate the permit application, associated documents, and comments submitted to determine whether the application meets the requirements of section 10(a)(1)(A) of the ESA and Federal regulations. The final permit decisions will not be made until after the end of the 30-day public comment period and after NMFS has fully considered all relevant comments received. NMFS will publish notice of its final action in the Federal Register.

Dated: August 23, 2022.
Lisa Manning,
Acting Chief, Endangered Species Division, Office of Protected Resources, National Marine Fisheries Service.

[FR Doc. 2022-18482 Filed 8-26-22; 8:45 am]

BILLING CODE 3510-22-P